DEPARTMENT OF COMMERCE

National Oceanic and Atmospheric Administration

[I.D. 051004E]

North Pacific Fishery Management Council; Public Meeting

AGENCY: National Marine Fisheries Service (NMFS), National Oceanic and Atmospheric Administration (NOAA), Commerce.

ACTION: Notice of a joint public meeting.

SUMMARY: The North Pacific Fishery Management Council's (Council) Non-Target Species Committee and Ad Hoc Working Group will meet June 3-4, 2004, in Seattle, WA.

DATES: The meeting will be held on Thursday, June 3 through Friday, June 4, 2004, from 9 a.m. until 4:30 p.m..

ADDRESSES: The meeting will be held at the Alaska Fishery Science Center, 7600 Sand Point Way North East, Building 4, Room 2143, Seattle, WA 98115.

Council address: North Pacific Fishery Management Council, 605 W. 4th Avenue, Suite 306, Anchorage, AK 99501-2252.

FOR FURTHER INFORMATION CONTACT: Jane DiCosimo, Council staff; telephone: 907-271-2809.

SUPPLEMENTARY INFORMATION: The committee will review a discussion paper that summarizes the status of recommendations proposed by the Council, committee, and working group for management of non-target groundfish species in the North Pacific. The committee and working group will jointly address a series of decision points outlined in the discussion paper. Policy decisions include: terms of reference for the committee; problem statement; approaches for the analysis; timeline for Council action; and identification of fishery management units, component species, and management objectives. Additional policy questions include: the role of target and non-target species in the ecosystem; potential losses and gains from the proposed system; process for monitoring and identifying species of conservation concern to ensure their protection; criteria for determining the extent to which it is practicable to decrease the bycatch of non-target species; acceptability of non-target species falling into an overfished status; criteria for establishing retention limits or time area closures; ensuring sustainability if criteria can not be defined; indicators triggering an action; defining non-target complexes; assessing appropriate bycatch level as a minimum measure; managing the remaining species; revising the overfishing level tier system to eliminate tier 6 for target species; defining the threshold between target and non-target; and defining the role of the groundfish plan teams.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least seven working days prior to the meeting date.

Dated: May 13, 2004.
Alan D. Risenhoover,
Acting Director, Office of Sustainable Fisheries, National Marine Fisheries Service.

[FR Doc. E4-1179 Filed 5-17-03; 8:45 am]

BILLING CODE 3510-22-S